DEPARTMENT OF HOMELAND SECURITY

U.S. Customs and Border Protection

[Docket No. USCBP-2009-0018]

Notice of Meeting of the Advisory Committee on Commercial Operations of Customs and Border Protection (COAC)

AGENCY: U.S. Customs and Border Protection, Department of Homeland Security (DHS).

ACTION: Notice of Federal Advisory Committee Meeting.

SUMMARY: The Advisory Committee on Commercial Operations of U.S. Customs and Border Protection (COAC) will meet on August 5, 2009 in Washington, DC. The meeting will be open to the public.

DATES: COAC will meet Wednesday, August 5, 2009 from 9 a.m. to 1 p.m. Please note that the meeting may close early if the committee completes its business. If you plan on attending, please register either online at http://www.cbp.gov/xp/cgov/trade/trade_outreach/coac/, or by e-mail to tradeevents@dhs.gov by close-of-business on Friday, July 31, 2009.

ADDRESSES: The meeting will be held at the Ronald Reagan Building in the Horizon Ballroom, 1300 Pennsylvania Avenue, NW., Washington, DC. Written material, comments, as well as any requests to have copies of your submitted materials distributed to committee members prior to the meeting should reach the contact person at the address below by July 31, 2009. Comments must be identified by USCBP-2009-0018 and may be submitted by one of the following methods:

• Federal eRulemaking Portal: http://www.regulations.gov. Follow the instructions for submitting comments.

• E-mail: tradeevents@dhs.gov. Include the docket number in the subject line of the message.

• Fax: 202-325-4290.

• Mail: Ms. Wanda Tate, Office of Trade Relations, U.S. Customs and Border Protection, Department of Homeland Security, 1300 Pennsylvania Avenue, NW., Room 5.2A, Washington, DC 20229.

Instructions: All submissions received must include the words “Department of Homeland Security” and the docket number for this action. Comments received will be posted without alteration at http://www.regulations.gov, including any personal information provided.

Docket: For access to the docket to read background documents or comments received by COAC, go to http://www.regulations.gov.

FOR FURTHER INFORMATION CONTACT: Ms. Wanda Tate, Office of Trade Relations, U.S. Customs and Border Protection, Department of Homeland Security, 1300 Pennsylvania Avenue, NW., Room 5.2A, Washington, DC 20229; tradeevents@dhs.gov; telephone 202-344-1440; facsimile 202-325-4290.

SUPPLEMENTARY INFORMATION: Pursuant to the Federal Advisory Committee Act (5 U.S.C. App.), DHS hereby announces the meeting of the Advisory Committee on Commercial Operations of Customs and Border Protection (COAC). COAC is tasked with providing advice to the Secretary of Homeland Security, the Secretary of the Treasury, and the Commissioner of U.S. Customs and Border Protection (CBP) on matters pertaining to the commercial operations of CBP and related functions within DHS or the Department of the Treasury.

The second meeting of the eleventh term of COAC will be held at the date, time and location specified above. A tentative agenda for the meeting is set forth below.

Tentative Agenda

1. Trade Facilitation Subcommittee.

2. Import Safety Initiatives.

3. Importer Security Filing (“10+2”).

4. Intellectual Property Rights Enforcement Subcommittee.

5. Agriculture Subcommittee.

6. Air Cargo Security Subcommittee.

7. Automation Subcomittee.

Procedural

This meeting is open to the public. Please note that the meeting may close early if all business is finished.

Participation in COAC deliberations is limited to committee members, Department of Homeland Security officials, and persons invited to attend the meeting for special presentations.

All visitors to the Ronald Reagan Building will have to go through a security checkpoint to be admitted to the building. Since seating is limited, all persons attending this meeting should provide notice by close-of-business on Friday, July 31, 2009, by registering online at http://www.cbp.gov/xp/cgov/trade/trade_outreach/coac/ or, alternatively, by contacting Ms. Wanda Tate, Office of Trade Relations, U.S. Customs and Border Protection, Department of Homeland Security, 1300 Pennsylvania Avenue, NW., Washington, DC 20229; tradeevents@dhs.gov; telephone 202-344-1440; facsimile 202-325-4290.

Information on Services for Individuals with Disabilities

For information on facilities or services for individuals with disabilities or to request special assistance at the meeting, contact Ms. Wanda Tate as soon as possible.

Dated: July 13, 2009.
Kimberly Marsho,
Director, Office of Trade Relations, U.S. Customs and Border Protection.

[FR Doc. E9-16970 Filed 7-16-09; 8:45 am]

BILLING CODE 9111-14-P